NUCLEAR REGULATORY COMMISSION

[Docket Nos. 50-266, 50-301, and 72-5]

Nuclear Management Company, LLC; Wisconsin Electric Power Company Point Beach Nuclear Plant, Unit Nos. 1 and 2, and Independent Spent Fuel Storage Installation; Notice of Consideration of Approval of Transfer of Renewed Facility Operating Licenses and Conforming Amendments and Opportunity for a Hearing

The U.S. Nuclear Regulatory Commission (the Commission) is considering the issuance of an order under 10 CFR 50.80 approving the direct transfer of the Renewed Facility Operating Licenses, which are numbered DPR-24 and DPR-27, for the Point Beach Nuclear Plant, Unit Nos. 1 and 2 (Point Beach), currently held by Wisconsin Electric Power Company (WEPCO), as owner, and Nuclear Management Company, LLC (NMC), as operating authority, of Point Beach. The transfer would be to FPL Energy Point Beach, LLC (FPLE Point Beach). WEPCO and NMC are also seeking, as an option, approval to transfer the operating authority for Point Beach from NMC to FPLE Point Beach prior to the closing for the transfer of ownership. The Commission is considering amending the licenses for administrative purposes to reflect the proposed transfers.

According to an application for approval dated January 26, 2007, and filed by WEPCO and NMC, FPLE Point Beach would acquire ownership of the facility following approval of the proposed transfer of licenses, and would be responsible for the operation and maintenance of Point Beach. FPLE Point Beach will also take title to the general license for the independent spent fuel storage installation. In addition, WEPCO and FPLE Point Beach have signed an Interim Operating Agreement that would permit WEPCO, at its option, and upon receipt of applicable regulatory approvals, to transfer operating authority to FPLE Point Beach prior to the closing for the ownership transfer. In a separate letter from FPLE Point Beach dated January 26, 2007, FPLE Point Beach provided the proprietary versions of several enclosures to the application from NMC and WEPCO that include proprietary financial information to support the application.

No physical changes to the Point Beach facility or operational changes are being proposed in the application.

The proposed amendments would replace references to WEPCO and NMC in the licenses with references to FPLE Point Beach, to reflect the proposed transfer.

Pursuant to 10 CFR 50.80 and 72.50, no license, or any right thereunder, shall be transferred, directly or indirectly, through transfer of control of the license, unless the Commission shall give its consent in writing. The Commission will approve an application for the direct transfer of a license, if the Commission determines that the proposed transferee is qualified to hold the license, and that the transfer is otherwise consistent with applicable provisions of law, regulations, and orders issued by the Commission pursuant thereto.

Before issuance of the proposed conforming license amendment, the Commission will have made findings required by the Atomic Energy Act of 1954, as amended (the Act), and the Commission's regulations.

As provided in 10 CFR 2.1315, unless otherwise determined by the Commission with regard to a specific application, the Commission has determined that any amendment to the license of a utilization facility, which does no more than conform the licenses to reflect the transfer action, involves no significant hazards consideration and no genuine issue as to whether the health and safety of the public will be significantly affected. No contrary determination has been made with respect to this specific license amendment application. In light of the generic determination reflected in 10 CFR 2.1315, no public comments with respect to significant hazards considerations are being solicited, notwithstanding the general comment procedures contained in 10 CFR 50.91.

The filing of requests for hearing and petitions for leave to intervene, and written comments with regard to the license transfer application, are discussed below.

Within 20 days from the date of publication of this notice, any person whose interest may be affected by the Commission's action on the application may request a hearing and, if not the applicant, may petition for leave to intervene in a hearing proceeding on the Commission's action. Requests for a hearing and petitions for leave to intervene should be filed in accordance with the Commission's rules of practice set forth in Subpart C “Rules of General Applicability: Hearing Requests, Petitions to Intervene, Availability of Documents, Selection of Specific Hearing Procedures, Presiding Officer Powers, and General Hearing Management for NRC Adjudicatory Hearings,” of 10 CFR Part 2. In particular, such requests and petitions must comply with the requirements set forth in 10 CFR 2.309. Untimely requests and petitions may be denied, as provided in 10 CFR 2.309(c)(1), unless good cause for failure to file on time is established. In addition, an untimely request or petition should address the factors that the Commission will also consider, in reviewing untimely requests or petitions, set forth in 10 CFR 2.309(c)(1)(I)-(viii).

Requests for a hearing and petitions for leave to intervene should be served upon Arthur H. Domby, Troutman Sanders LLP, 600 Peachtree Street, Atlanta, GA 30308, telephone: 404-885-3130, facsimile: 404-962-6546, e-mail: arthur.domby@troutmansanders.com; Jonathan Rogoff, Vice President, General Counsel and Secretary, Nuclear Management Company, LLC, 700 First Street, Hudson, WI 54016, telephone: 715-377-3316, facsimile: 715-386-1013, e-mail: jonathan.rogoff@nmcco.com; Mitchell S. Ross, Associate General Counsel, FPL Energy Point Beach, LLC, 700 Universe Blvd., Juno Beach, Florida 33408, telephone: 561-691-7126, facsimile: 561-691-7135, e-mail: mitch_ross@fpl.com; the General Counsel, U.S. Nuclear Regulatory Commission, Washington, DC 20555-0001 (e-mail address for filings regarding license transfer cases only: OGCLT@NRC.gov); and the Secretary of the Commission, U.S. Nuclear Regulatory Commission, Washington, DC 20555-0001, Attention: Rulemakings and Adjudications Staff, in accordance with 10 CFR 2.302 and 2.305.

The Commission will issue a notice or order granting or denying a hearing request or intervention petition, designating the issues for any hearing that will be held and designating the Presiding Officer. A notice granting a hearing will be published in the Federal Register and served on the parties to the hearing.

As an alternative to requests for hearing and petitions to intervene, within 30 days from the date of publication of this notice, persons may submit written comments regarding the license transfer application, as provided for in 10 CFR 2.1305. The Commission will consider and, if appropriate, respond to these comments, but such comments will not otherwise constitute part of the decisional record. Comments should be submitted to the Secretary, U.S. Nuclear Regulatory Commission, Washington, DC 20555-0001, Attention: Rulemakings and Adjudications Staff, and should cite the publication date and page number of this Federal Register notice.

For further details with respect to this action, see the application dated January 26, 2007, available for public inspection at the Commission's Public Document Room (PDR), located at One White Flint North, Public File Area O1 F21, 11555 Rockville Pike (first floor), Rockville, Maryland. Publicly available records will be accessible electronically from the Agency wide Documents Access and Management System's (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr@nrc.gov.

Dated at Rockville, Maryland this 22nd day of February 2007.
For the Nuclear Regulatory Commission.
Patrick D. Milano,
Senior Project Manager, Plant Licensing Branch III-1, Division of Operating Reactor Licensing, Office of Nuclear Reactor Regulation.

[FR Doc. E7-3474 Filed 2-27-07; 8:45 am]

BILLING CODE 7590-01-P